DEPARTMENT OF THE TREASURY

Internal Revenue Service

26 CFR Part 1

[REG-149519-03]

RIN 1545-BC63

Section 707 Regarding Disguised Sales, Generally; Correction

AGENCY: Internal Revenue Service (IRS), Treasury.

ACTION: Correction to notice of proposed rulemaking and notice of public hearing.

SUMMARY: This document contains a correction to proposed regulations which were published in the Federal Register on Friday, November 26, 2004 (69 FR 68838). The proposed regulations relates to the treatment of transactions between a partnership and its partners as disguised sales of partnership interests between the partners.

FOR FURTHER INFORMATION CONTACT: Deane M. Burke or Christopher L. Trump, (202) 622-3070 (not a toll-free number).

SUPPLEMENTARY INFORMATION:

Background

The proposed regulations that is the subject of this correction is under section 707(a)(2)(B) of the Internal Revenue Code.

Need for Correction

As published, the notice of proposed rulemaking and notice of public hearing contain an error that may prove to be misleading and is in need of clarification.

Correction to Publication

Accordingly, the publication of the proposed regulations (REG-149519-03), which was the subject of FR Doc. 04-26112, is corrected as follows:

On page 68843, column 3, in the preamble under the paragraph heading, “Review of Existing Regulations”, line 5, the language “§§ 1.707-3, 1.707-4, and 1.707-5.” is corrected to read “§§ 1.707-3, 1.707-4, 1.707-5 and 1.707-6.”.

Cynthia E. Grigsby,
Acting Chief, Regulations and Publications Branch, Legal Processing Division, Associate Chief Counsel (Procedure and Administration).

[FR Doc. 04-27913 Filed 12-20-04; 8:45 am]

BILLING CODE 4830-01-P